NUCLEAR REGULATORY COMMISSION

[NRC-2014-0168]

Applications and Amendments to Facility Operating Licenses and Combined Licenses Involving Proposed No Significant Hazards Considerations and Containing Sensitive Unclassified Non-Safeguards Information and Order Imposing Procedures for Access to Sensitive Unclassified Non-Safeguards Information

AGENCY: Nuclear Regulatory Commission.

ACTION: License amendment request; opportunity to comment, request a hearing, and petition for leave to intervene; order.

SUMMARY: The U.S. Nuclear Regulatory Commission (NRC) received and is considering approval of seven amendment requests. The amendment requests are for James A. Fitzpatrick Nuclear Power Plant; Pilgrim Nuclear Power Station; Calvert Cliffs Nuclear Power Plant; LaSalle County Station, Units 1 and 2 (two requests); Nine Mile Point Nuclear Station, Unit 2; Prairie Island Nuclear Power Plant, Units 1 and 2. For each amendment request, the NRC proposes to determine that they involve no significant hazards consideration. In addition, each amendment request contains sensitive unclassified non-safeguards information (SUNSI).

DATES: Comments must be filed by September 4, 2014. A request for a hearing must be filed by October 6, 2014. Any potential party as defined in § 2.4 of Title 10 of the Code of Federal Regulations (10 CFR), who believes access to SUNSI is necessary to respond to this notice must request document access by August 15, 2014.

ADDRESSES: You may submit comments by any of the following methods (unless this document describes a different method for submitting comments on a specific subject):

• Federal Rulemaking Web site: Go to http://www.regulations.gov and search for Docket ID NRC-2014-0168. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation U.S. Nuclear Regulatory Commission, Washington DC 20555-0001; telephone: 301-415-5411, email: Shirley.Rohrer@nrc.gov.

SUPPLEMENTARY INFORMATION:

I. Obtaining Information and Submitting Comments

A. Obtaining Information

Please refer to Docket ID NRC-2014-0168 when contacting the NRC about the availability of information for this action. You may obtain publicly-available information related to this action by any of the following methods:

• Federal Rulemaking Web site: Go to http://www.regulations.gov and search for Docket ID NRC-2014-0168.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2014-0168 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

Pursuant to Section 189a.(2) of the Atomic Energy Act of 1954, as amended (the Act), the NRC is publishing this notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This notice includes notices of amendments containing SUNSI.

III. Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Entergy Nuclear Operations, Inc., Docket No. 50-333, James A. Fitzpatrick Nuclear Power Plant (JAF), Oswego County, New York

Date of amendment request: May 1, 2014. A publicly-available version is in ADAMS under Accession No. ML14143A316.

Description of amendment request: This amendment request contains sensitive unclassified non-safeguards information (SUNSI). The amendment would revise Technical Specification (TS) 2.0, “Safety Limits (SLs),” by including new values for the Safety Limit Minimum Critical Power Ratio for both single and dual recirculation loop operation.

Basis for proposed no significant hazards consideration determination: As required by 10 CFR 50.91(a), the licensee has provided its analysis of the issue of no significant hazards consideration, which is presented below:

1. The operation of JAF in accordance with the proposed amendment will not involve a significant increase in the probability or consequences of an accident previously evaluated.

The basis of the Safety Limit Minimum Critical Power Ratio (SLMCPR) is to ensure no mechanistic fuel damage is calculated to occur if the limit is not violated. The new SLMCPR values preserve the existing margin to transition boiling and probability of fuel damage is not increased. The derivation of the revised SLMCPR for JAF, for incorporation into the Technical Specifications and its use to determine plant and cycle-specific thermal limits, has been performed using NRC approved methods. These plant-specific calculations are performed each operating cycle and if necessary, will require future changes to these values based upon revised core designs. The revised SLMCPR values do not change the method of operating the plant and have no effect on the probability of an accident initiating event or transient.

Based on the above, JAF has concluded that the proposed change will not result in a significant increase in the probability or consequences of an accident previously evaluated.

2. The operation of JAF in accordance with the proposed amendment will not create the possibility of a new or different kind of accident from any accident previously evaluated.

The proposed changes result only from a specific analysis for the JAF core reload design. These changes do not involve any new or different methods for operating the facility. No new initiating events or transients result from these changes.

Based on the above, JAF has concluded that the proposed change will not create the possibility of a new or different kind of accident from those previously evaluated.

3. The operation of JAF in accordance with the proposed amendment will not involve a significant reduction in a margin of safety.

The new SLMCPR is calculated using NRC approved methods with plant and cycle specific parameters for the current core design. The SLMCPR value remains conservative enough to ensure that greater than 99.9% of all fuel rods in the core will avoid transition boiling if the limit is not violated, thereby preserving the fuel cladding integrity. The operating MCPR limit is set appropriately above the safety limit value to ensure adequate margin when the cycle specific transients are evaluated. Accordingly, the margin of safety is maintained with the revised values.

As a result, JAF has determined that the proposed change will not result in a significant reduction in a margin of safety.

The NRC staff has reviewed the licensee's analysis and, based on this review, it appears that the three standards of 10 CFR 50.92(c) are satisfied. Therefore, the NRC staff proposes to determine that the amendment request involves no significant hazards consideration.

Attorney for licensee: Jeanne Cho, Assistant General Counsel, Entergy Nuclear Operations, Inc., 440 Hamilton Avenue, White Plains, NY 10601.

NRC Branch Chief: Benjamin G. Beasley.

Entergy Nuclear Operations, Inc., Docket No. 50-293, Pilgrim Nuclear Power Station, Plymouth County, Massachusetts

Date of amendment request: January 31, 2014. A publicly-available version is in ADAMS under Accession No. ML14042A166.

Description of amendment request: This amendment request contains sensitive unclassified non-safeguards information (SUNSI). The amendment would revise the Cyber Security Plan (CSP) Milestone 8 full implementation date, as set forth in the CSP Implementation Schedule.

Basis for proposed no significant hazards consideration determination: As required by 10 CFR 50.91(a), the licensee has provided its analysis of the issue of no significant hazards consideration, which is presented below:

1. Does the proposed change involve a significant increase in the probability or consequences of an accident previously evaluated?

Response: No.

The proposed change to the CSP Implementation Schedule is administrative in nature. This change does not alter accident analysis assumptions, add any initiators, or affect the function of plant systems or the manner in which systems are operated, maintained, modified, tested, or inspected. The proposed change does not require any plant modifications which affect the performance capability of the structures, systems, and components relied upon to mitigate the consequences of postulated accidents and has no impact on the probability or consequences of an accident previously evaluated.

Therefore, the proposed change does not involve a significant increase in the probability or consequences of an accident previously evaluated.

2. Does the proposed change create the possibility of a new or different kind of accident from any accident previously evaluated?

Response: No.

The proposed change to the CSP Implementation Schedule is administrative in nature. This proposed change does not alter accident analysis assumptions, add any initiators, or affect the function of plant systems or the manner in which systems are operated, maintained, modified, tested, or inspected. The proposed change does not require any plant modifications which affect the performance capability of the structures, systems, and components relied upon to mitigate the consequences of postulated accidents and does not create the possibility of a new or different kind of accident from any accident previously evaluated.

Therefore, the proposed change does not create the possibility of a new or different kind of accident from any accident previously evaluated.

3. Does the proposed change involve a significant reduction in a margin of safety?

Response: No.

Plant safety margins are established through limiting conditions for operation, limiting safety system settings, and safety limits specified in the technical specifications. The proposed change to the CSP Implementation Schedule is administrative in nature. In addition, the milestone date delay for full implementation of the CSP has no substantive impact because other measures have been taken which provide adequate protection during this period of time. Because there is no change to established safety margins as a result of this change, the proposed change does not involve a significant reduction in a margin of safety.

Therefore, the proposed change does not involve a significant reduction in a margin of safety.

The NRC staff has reviewed the licensee's analysis and, based on this review, it appears that the three standards of 50.92(c) are satisfied. Therefore, the NRC staff proposes to determine that the amendment request involves no significant hazards consideration.

Attorney for licensee: Jeanne Cho, Assistant General Counsel, Entergy Nuclear Operations, Inc., 440 Hamilton Avenue, White Plains, NY 10601.

NRC Branch Chief: Benjamin G. Beasley.

Exelon Generation Company, LLC, Docket Nos. 50-317 and 50-318, Calvert Cliffs Nuclear Power Plant, Units 1 and 2, Calvert County, Maryland

Date of amendment request: September 24, 2013. A publicly-available version is in ADAMS under Accession Nos. ML13301A673 and ML13301A674.

Description of amendments request: This amendment request contains sensitive unclassified non-safeguards information (SUNSI). The amendments would modify the fire protection licensing basis to transition to the requirements of National Fire Protection Association (NFPA) standard 805, pursuant to 10 CFR 50.48(c).

Basis for proposed no significant hazards consideration determination: As required by 10 CFR 50.91(a), the licensee has provided its analysis of the issue of no significant hazards consideration, which is presented below:

1. Does the proposed amendment involve a significant increase in the probability or consequences of an accident previously evaluated?

Response: No.

The purpose of the proposed amendment is to permit Calvert Cliffs Units 1 and 2 to adopt a new fire protection licensing basis that complies with the requirements of 10 CFR 50.48(a) and (c) and the guidance in Regulatory Guide 1.205. The NRC considers that NFPA 805 provides an acceptable methodology and performance criteria for licensees to identify fire protection requirements that are an acceptable alternative to the 10 CFR Appendix R required fire protection features (69 FR 33536, June 16, 2004).

Engineering analyses, which may include engineering evaluations, probabilistic safety assessments, and fire modeling calculations, have been performed to demonstrate that the performance-based requirements of NFPA 805 have been satisfied. The Updated Final Safety Analysis Report documents the analysis of design basis accidents at Calvert Cliffs Units 1 and 2. The proposed amendment does not affect accident initiators, nor does it alter design assumptions, conditions, or configurations of the facility that would increase the probability of accidents previously evaluated. Further, the changes to be made for fire hazard protection and mitigation do not adversely affect the ability of structures, systems or components to perform their design functions for accident mitigation, nor do they affect the postulated initiators or assumed failure modes for accidents described and evaluated in the UFSAR. Structures, systems or components required to safely shutdown the reactor and to maintain it in a safe shutdown condition will remain capable of performing their design function.

NFPA 805, taken as a whole, provides an acceptable alternative for satisfying General Design Criterion 3 of Appendix A to 10 CFR 50, meets the underlying intent of the NRC's existing fire protection regulations and guidance, and provides defense-in-depth. The goals, performance objectives and performance criteria specified in Chapter 1 of the standard ensure that, if there are any increases in core damage frequency or risk, the increase will be small and consistent with the intent of the Commission's Safety Goal Policy.

The proposed amendment will not affect the source term, containment isolation, or radiological release assumptions used in evaluating the radiological consequences of any accident previously evaluated and equipment required to mitigate an accident remains capable of performing the assumed function. The applicable radiological dose criteria will continue to be met.

Based on the above discussion, it is concluded that the proposed amendment does not involve a significant increase in the probability or consequences of an accident previously evaluated.

2. Does the proposed amendment create the possibility of a new or different kind of accident from any kind of accident previously evaluated?

Response: No.

The proposed change does not alter the requirements or functions for systems required during accident conditions. Implementation of the new fire protection licensing basis, which complies with the requirements of 10 CFR 50.48(a) and (c) and the guidance of Regulatory Guide 1.205, will not result in new or different accidents.

The proposed amendment does not introduce new or different accident initiators, nor does it alter design assumptions, conditions, or configurations of the facility in such a manner as to introduce new or different accident initiators. The proposed amendment does not adversely affect the ability of structures, systems, or components to perform their design function. Structures, systems or components required to safely shutdown the reactor and maintain it in a safe shutdown condition remain capable of performing their design functions.

The requirements of NFPA 805 address only fire protection and the impacts of fire on the plant that have previously been evaluated. Thus, implementation of the proposed amendment would not create the possibility of a new or different kind of accident beyond those already analyzed in the UFSAR. No new accident scenarios, transient precursors, failure mechanisms, or limiting single failures will be introduced, and there will be no adverse effect or challenges imposed on any safety related system as a result of the proposed amendment.

Based on the above discussion, it is concluded that the proposed amendment does not create the possibility of a new or different kind of accident from any accident previously evaluated.

3. Does the proposed amendment involve a significant reduction in the margin of safety?

Response: No.

The purpose of the proposed amendment is to permit Calvert Cliffs Units 1 and 2 to adopt a new fire protection licensing basis which complies with the requirements on 10 CFR 50.48(a) and (c) and the guidance in Regulatory Guide 1.205. The NRC considers that NFPA 805 provides an acceptable methodology and performance criteria for licensees to identify for protection systems and features that are an acceptable alternative to the 10 CFR 50 Appendix R required fire protection features (69 FR 33536, June 16, 2004).

The overall approach of NFPA 805 is consistent with the key principals for evaluating license basis changes, as described in Regulatory Guide 1.174, is consistent with the defense-in-depth philosophy, and maintains sufficient safety margins. Engineering analyses, which may include engineering evaluations, probabilistic safety assessments, and fire modeling calculations, have been performed to demonstrate that the performance based methods do not result in a significant reduction in the margin of safety.

The proposed amendment does not alter the manner in which safety limits, limiting safety system settings or limiting conditions for operation are determined. The safety analysis acceptance criteria are not affected by this change. The proposed amendment does not adversely affect existing plant safety margins or the reliability of equipment assumed to mitigate accidents in the UFSAR. The proposed amendment does not adversely affect the ability of structures, systems or components to perform their design function. Structures, systems or components required to safely shutdown the reactor and to maintain it in a safe shutdown condition remain capable of performing their design function.

Based on the above discussion, it is concluded that the proposed amendment does not involve a significant reduction in a margin of safety.

The NRC staff has reviewed the licensee's analysis and, based on this review, it appears that the three standards of 10 CFR 50.92(c) are satisfied. Therefore, the NRC staff proposes to determine that the amendments request involves no significant hazards consideration.

Attorney for licensee: J. Bradley Fewell, Exelon Generation, 200 Exelon Way, Kennett Square, PA 19348.

NRC Branch Chief: Benjamin G. Beasley.

Exelon Generation Company, LLC, Docket Nos. 50-373 and 50-374, LaSalle County Station (LSCS), Units 1 and 2, LaSalle County, Illinois

Date of amendment request: July 12, 2012, as supplemented by letters dated September 17, 2012, January 18, 2013, February 11, 2013, October 4, 2013, and February 20, 2014. Publicly-available versions are in ADAMS under Accession Nos. ML12200A330, ML122690041, ML13022A476, ML13042A405, ML13282A339, and ML14066A250.

Description of amendment request: This amendment request contains sensitive unclassified non-safeguards information (SUNSI). The proposed amendment would modify Technical Specification 3.7.3, “Ultimate Heat Sink,” by changing the maximum allowable temperature of the ultimate heat sink from a fixed limit of 101.25 degrees Fahrenheit to a variable limit between 101.25 and 104 degrees Fahrenheit depending on the time of day. The proposed amendment was initially published in the Federal Register Biweekly notice on April 2, 2013 (78 FR 19746).

Basis for proposed no significant hazards consideration determination: As required by 10 CFR 50.91(a), the licensee has provided its analysis of the issue of no significant hazards consideration, which is presented below:

1. Does the proposed change involve a significant increase in the probability or consequences of an accident previously evaluated?

Response: No.

The proposed change makes no physical changes to the plant, nor does it alter any of the assumptions or conditions upon which the UHS [ultimate heat sink] is designed. These assumptions and conditions as described in the LSCS UFSAR [updated final safety analysis report] include failure of the cooling lake dike, a loss of offsite power and a DBA [design-basis accident] LOCA [loss-of-coolant accident] on one unit, and a normal shutdown of the other unit.

The accidents analyzed in the UFSAR are assumed to be initiated by the failure of plant structures, systems, or components (SSCs). An inoperable UHS is not an initiator of any analyzed events as described in the UFSAR. The impact on the structural integrity of the UHS due to a potential increase water temperature prior to and during the UHS design basis event has been evaluated, and does not increase the probability of the failure of the cooling lake dike. The proposed temperature limit for cooling water supplied to the plant from the CSCS [core standby cooling system] Pond could reduce the commercial capability of the LSCS units; however, it does not result in an increase in the probability of occurrence for any of the events described in the UFSAR.

The basis provided in Regulatory Guide 1.27, “Ultimate Heat Sink for Nuclear Power Plants,” Revision 2, dated January 1976, was employed for the temperature analysis of the LSCS UHS to implement General Design Criteria 2, “Design bases for protection against natural phenomena,” and 44, “Cooling water,” of Appendix A to 10 CFR 50 [Title 10 of the Code of Federal Regulations Part 50]. Revision 1 of this Regulatory Guide was employed for the original design and licensing basis of the LSCS UHS, and Revision 2 of this Regulatory Guide was used for the subsequent evaluation, which investigated the potential for changing the average water temperature of the cooling water supplied to the plant from the CSCS Pond from a fixed temperature limit to a limit based on the time of day. The meteorological conditions chosen for the LSCS UHS analysis utilized a critical period consisting of the most severe 33 hour transit time followed by the subsequent 31 calendar days based on historical data. The heat loads selected for the UHS analysis considered failure of the cooling lake dike, a loss of offsite power and a DBA LOCA on one unit, and a normal shutdown of the other unit. The LSCS cooling lake is conservatively assumed to be unavailable at the start of the event. The analysis shows that with an initial UHS temperature less than or equal to the proposed time-of-day-based limit, the required safety-related heat loads can be adequately cooled for 30 days while continuing to ensure safety-related cooling water temperature remains less than the design temperature for LSCS, Units 1 and 2.

Based on the above, it has been demonstrated that the change of the initial temperature limit for cooling water supplied to the plant from the CSCS Pond to less than or equal to a temperature based on the time of day will not impede the ability of the equipment and components cooled by the UHS during a UHS design basis event to perform their safety functions.

There is no impact of this change on LSCS safety analyses including the consequences of all postulated events since all required safety-related equipment continues to perform as designed. The effects of the proposed change on the ability of the UHS to assure that a 30-day supply of water is available considering losses due to evaporation, seepage, and firefighting have been considered. Sufficient inventory remains available to mitigate the design basis event for the LSCS UHS for the required 30-day period.

Therefore, the proposed activity does not involve a significant increase in the probability or consequences of an accident previously evaluated.

2. Does the proposed change create the possibility of a new or different kind of accident from any accident previously evaluated?

Response: No.

The proposed change does not physically alter the operation, testing, or maintenance of any plant SSCs beyond operating with a UHS temperature limit based on the time of day. The proposed change is supported by appropriate design analysis. Moreover, the UHS temperature does not initiate accident precursors. The impact of increased UHS temperature can affect the commercial operation of the plant, but the proposed change would not create any accident not considered in the LSCS UFSAR.

This proposed change will not alter the manner in which equipment operation is initiated, nor will the functional demands on credited equipment be changed. No alteration in the procedures that ensure the LSCS units remain within analyzed limits is proposed, and no change is being made to procedures relied upon to respond to an off-normal event. As such, no new failure modes are being introduced. The proposed change does not alter assumptions made in the LSCS safety analysis.

Changing the temperature of cooling water supplied to the plant from the CSCS Pond (i.e., the UHS) as proposed has no impact on plant accident response. The proposed temperature limits do not introduce new failure mechanisms for SSCs. An engineering analysis performed to support the change in temperature of cooling water supplied to the plant from the CSCS Pond provides the basis to conclude that the equipment is adequately designed for operation as proposed.

All systems that are important to safety will continue to be operated and maintained within their design bases, and the proposed change will continue to ensure that all associated systems and components are operated reliably within their design capabilities.

The proposed change will ensure the maximum temperature of the cooling water supplied to the plant during the UHS design basis event remains less than the current safety-related cooling water design temperature for LSCS, Units 1 and 2. Therefore, there is no impact of this change on the LSCS safety analyses including inventory and cooling requirements for safety-related systems using the UHS as their cooling water supply.

All systems will continue to be operated within their design capabilities, no new failure modes are introduced, nor is there any adverse impact on plant equipment; therefore, the proposed change does not result in the possibility of a new or different kind of accident from any accident previously evaluated.

3. Does the proposed change involve a significant reduction in a margin of safety?

Response: No.

The margin of safety is determined by the design and qualification of the plant equipment, the operation of the plant within analyzed limits, and the point at which protective or mitigative actions are initiated. The proposed change does not impact any of these factors. There are no required design changes or equipment performance parameter changes associated with the proposed change. No protection setpoints are affected as a result of this change. The proposed change in the limit for the temperature of cooling water supplied to the plant from the CSCS Pond will not change the operational characteristics of the design of any equipment or system. All accident analysis assumptions and conditions will continue to be met.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Nuclear, 4300 Winfield Road, Warrenville, IL 60555.

NRC Branch Chief: Travis L. Tate.

Exelon Generation Company, LLC, Docket Nos. 50-373 and 50-374, LaSalle County Station (LSCS), Units 1 and 2, LaSalle County, Illinois

Date of amendment request: December 20, 2013, as supplemented by letter dated February 26, 2014. Publicly-available versions are in ADAMS under Accession Nos. ML13358A354 and ML14057A549.

Description of amendment request: This amendment request contains sensitive unclassified non-safeguards information (SUNSI). The proposed amendment would modify LSCS, Unit 1, pressure and temperature curves in Technical Specification 3.4.11, “RCS [Reactor Coolant System] Pressure and Temperature (P/T) Limits.”

Basis for proposed no significant hazards consideration determination: As required by 10 CFR 50.91(a), the licensee has provided its analysis of the issue of no significant hazards consideration, which is presented below:

1. Does the proposed change involve a significant increase in the probability or consequences of an accident previously evaluated?

Response: No.

The proposed change makes no physical changes to the plant. The proposed amendment incorporates the recent ISP [integrated surveillance program] results into the NRC-approved methodology of the GE Hitachi Nuclear Energy Licensing Topical Report NEDC-33178P-A, Revision 1, for the preparation of the LSCS, Unit 1 P/T [pressure and temperature] limit curves. In 10 CFR 50, Appendix G, requirements are established to protect the integrity of the Reactor Coolant Pressure Boundary in nuclear power plants. Implementing the NRC-approved methodology for calculating P/T limit curves Evaluation of Proposed Changes provide an equivalent level of assurance that Reactor Coolant Pressure Boundary integrity will be maintained, as specified in 10 CFR 50, Appendix G.

The proposed changes do not adversely affect accident initiators or precursors, and do not negatively alter the design assumptions, conditions, or configuration of the plant or the manner in which the plant is operated and maintained. The ability of structures, systems, and components to perform their intended safety functions is not altered or prevented by the proposed changes, and the assumptions used in determining the radiological consequences of previously evaluated accidents are not affected.

Therefore, the proposed activity does not involve a significant increase in the probability or consequences of an accident previously evaluated.

2. Does the proposed change create the possibility of a new or different kind of accident from any accident previously evaluated?

Response: No.

The revised P/T limits do not alter or involve any design basis accident initiators. Reactor Coolant Pressure Boundary integrity will continue to be maintained in accordance with 10 CFR 50, Appendix G, and the assumed accident performance of plant structures, systems and components will not be affected. These changes do not involve any physical alteration of the plant (i.e., no new or different type of equipment will be installed), and installed equipment is not being operated in a new or different manner. Thus, no new failure modes are introduced.

Therefore, the proposed change does not create the possibility of a new or different kind of accident from any accident previously evaluated.

3. Does the proposed change involve a significant reduction in a margin of safety?

Response: No.

The proposed changes do not affect the function of the Reactor Coolant Pressure Boundary or its response during plant transients. By calculating the P/T limits using NRC-approved methodology, adequate margins of safety relating to Reactor Coolant Pressure Boundary integrity are maintained. The proposed changes do not alter the manner in which safety limits, limiting safety system settings, or limiting conditions for operation are determined. There are no changes to setpoints at which protective actions are initiated, and the operability requirements for equipment assumed to operate for accident mitigation are not affected.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Nuclear, 4300 Winfield Road, Warrenville, IL 60555.

NRC Branch Chief: Travis L. Tate.

Nine Mile Point Nuclear Station, LLC, Docket No. 50-410, Nine Mile Point Nuclear Station, Unit 2 (NMP2), Oswego County, New York

Date of amendment request: November 1, 2013, as supplemented by letters dated January 21, February 14, February 25, March 10, May 14, and June 13, 2014. A publicly-available version is in ADAMS under Accession Nos. ML13316B107, ML13316B109, ML13316B110, ML14023A654, ML14051A138, ML14064A321, ML14064A322, ML14064A323, ML14064A324, ML14071A466, ML14139A416, and ML14169A034.

Description of amendment request: This amendment request contains sensitive unclassified non-safeguards information (SUNSI). The license amendment request was originally noticed in the Federal Register (FR) on June 6, 2014 (79 FR 32763-32765). This notice is being reissued in its entirety to include the revised description of the amendment request and revised analysis of the issue of no significant hazards consideration submitted by the licensee in its June 13, 2014 submission. The proposed amendment includes changes to the NMP2 Technical Specifications (TSs) necessary to: (1) Implement the Maximum Extended Load Line Limit Analysis Plus (MELLLA+) expanded operating domain; (2) change the stability solution to Detect and Suppress Solution—Confirmation Density (DSS-CD); (3) use the TRACG04 analysis code; and (4) increase the Safety Limit Minimum Critical Power Ratio (SLMCPR) for two recirculation loops in operation.

The following is a list of the proposed changes to the NMP2 TSs:

• Revise Safety Limit (SL) 2.1.1.2 by increasing the SLMCPR for two recirculation loops in operation from ≥1.07 to ≥1.09.

• Revise the acceptance criterion in TS 3.1.7, “Standby Liquid Control (SLC) System,” Surveillance Requirement (SR) 3.1.7.7 by increasing the discharge pressure from ≥1,327 pounds per square inch gauge (psig) to ≥1,335 psig.

• Change the Required Actions for Condition F of TS 3.3.1.1, “Reactor Protection System (RPS) Instrumentation.”

• Change Condition G of TS 3.3.1.1.

• Add new Conditions J and K to TS 3.3.1.1.

• Correct an editorial error in Note 3 to TS SR 3.3.1.1.13 (i.e., “ORRM” is changed to “OPRM” [Oscillation Power Range Monitor]).

• Eliminate TS SR 3.3.1.1.16 and references to it in TS Table 3.3.1.1-1, “Reactor Protection System Instrumentation.”

• Change the allowable value (AV) for TS Table 3.3.1.1-1, Function 2.b, Average Power Range Monitor (APRM)—Flow Biased Simulated Thermal Power (STP)—Upscale from “≤ 0.55W + 60.5% [Rated Thermal Power] RTP and ≤ 115.5% RTP” to “≤ 0.61W + 63.4% RTP and ≤ 115.5% RTP.”

• Add a new note to TS Table 3.3.1.1-1, Function 2.b that requires the Flow Biased Simulated Thermal Power—Upscale scram setpoint to be reset to the values defined by the Core Operating Limits Report (COLR) to implement the Automated Backup Stability Protection (BSP) Scram Region in accordance with Required Action F.2 of TS 3.3.1.1.

• Add a new note to TS Table 3.3.1.1-1, Function 2.e, Oscillation Power Range Monitor (OPRM)—Upscale to denote that following implementation of DSS-CD, DSS-CD is not required to be armed while in the DSS-CD Armed Region during the first reactor startup and during the first controlled shutdown that passes completely through the DSS-CD Armed Region. However, DSS-CD is considered operable and capable of automatically arming for operation at recirculation drive flow rates above the DSS-CD Armed Region.

• Change the mode of applicability for TS Table 3.3.1.1-1, Function 2.e, OPRM-Upscale from Mode 1 to ≥18% RTP.

• Change the allowable value for TS Table 3.3.1.1-1, Function 2.e from “As specified in the COLR” to “NA [not applicable].”

• TS Limiting Condition for Operation (LCO) 3.4.1, “Recirculation Loops Operating,” is modified to prohibit operation in the Maximum Extended Load Line Limit Analysis (MELLLA) domain or MELLLA+ expanded operating domain as defined in the COLR when in operation with a single recirculation loop.

• Add Required Action B.2 to TS 3.4.1 to identify that intentional operation in the MELLLA domain or MELLLA+ domain as defined in the COLR is prohibited when a recirculation loop is declared “not in operation” due to a recirculation loop flow mismatch not within limits.

• Revise TS 5.6.5.a.4 to replace “Reactor Protection System Instrumentation Setpoint for the OPRM—Upscale Function Allowable Value for Specification 3.3.1.1” with “The Manual Backup Stability Protection (BSP) Scram Region (Region I), the Manual BSP Controlled Entry Region (Region II), the modified APRM Simulated Thermal Power—High setpoints used in the OPRM (Function 2.e), Automated BSP Scram Region, and the BSP Boundary for Specification 3.3.1.1.”

• Add TS 5.6.8, “OPRM Report,” to define the contents of the report required by new Required Action F.3 of TS 3.3.1.1.

The NRC's approval of the requested operating domain expansion will allow NMP2 to implement operational changes that will increase operational flexibility for power maneuvering, compensate for fuel depletion, and maintain efficient power distribution in the reactor core without the need for more frequent rod pattern changes. MELLLA+ supports operation of NMP2 at Current Licensed Thermal Power (CLTP) of 3,988 Megawatts—Thermal (MWth) with core flow as low as 85% of rated core flow. By operating in the MELLLA+ domain, a significantly lower number of control rod movements will be required than in the present operating domain. This represents a significant improvement in operating flexibility. It also provides safer operation, because reducing the number of control rod manipulations: (a) Minimizes the likelihood of fuel failures, and (b) reduces the likelihood of accidents initiated by reactor maneuvers required to achieve an operating condition where control rods can be withdrawn.

Basis for proposed no significant hazards consideration determination: As required by 10 CFR 50.91(a), the licensee has provided its analysis of the issue of no significant hazards consideration, which is presented below:

1. Will the change involve a significant increase in the probability or consequences of an accident previously evaluated?

Response: No.

The probability (frequency of occurrence) of Design Basis Accidents occurring is not affected by implementing the MELLLA+ operating domain and DSS-CD stability solution, because NMP2 continues to comply with the regulatory and design basis criteria established for plant equipment. A SLS [standby liquid control system] failure is not a precursor of any previously evaluated accident in the NMP2 USAR [updated safety analysis report]. The increase to the SLMCPR for two recirculation loops in operation does not increase the probability of an evaluated accident. Consequently, there is no change in the probability of a previously evaluated accident.

The spectrum of postulated transients was investigated and shown to remain within the NRC approved acceptance limits. Fuel integrity is maintained by meeting existing design and regulatory limits. Further, a probabilistic risk assessment demonstrates that the calculated core damage frequency and the large early release frequency do not significantly change due to operation in the MELLLA+ domain.

Challenges to the reactor coolant pressure boundary were evaluated for the MELLLA+ operating domain conditions (pressure, temperature, flow, and radiation) and were found to meet their acceptance criteria for allowable stresses and overpressure margin.

Challenges to the containment were evaluated and the containment and its associated cooling systems continue to meet the current licensing basis. The calculated post LOCA [loss-of-coolant accident] suppression pool temperature remains acceptable.

The SLS is used to mitigate the consequences of an Anticipated Transient Without SCRAM (ATWS) special event and is used to limit the radiological dose during a Loss of Coolant Accident (LOCA). The proposed changes do not affect the capability of the SLS to perform these two functions in accordance with the assumptions of the associated analyses. The ATWS evaluation with the proposed changes incorporated demonstrated that all the ATWS acceptance criteria are met. The ability of the SLS to mitigate radiological dose in the event of a LOCA by maintaining suppression pool pH ≥7.0 is not affected by these changes.

This proposed change to the SLMCPR for two recirculation loops in operation does not result in any modification to the design or operation of the systems that are used in mitigation of accidents. Limits have been established, consistent with NRC approved methods, to ensure that fuel performance during normal, transient, and accident conditions is acceptable. The proposed change to the SLMCPR for two recirculation loops in operation continues to conservatively establish this safety limit such that the fuel is protected during normal operation and during any plant transients or anticipated operational occurrences.

Therefore, the proposed change does not involve a significant increase in the probability or consequences of an accident previously evaluated.

2. Will the change create the possibility of a new or different kind of accident from any accident previously evaluated?

Response: No.

Equipment that could be affected by implementing the MELLLA+ operating domain and DSS-CD stability solution was evaluated. No new operating mode, safety-related equipment lineup, accident scenario, or equipment failure mode was identified. The full spectrum of accident considerations was evaluated and no new or different kind of accident was identified. The MELLLA+ operating domain and DSS-CD stability solution use developed technology and apply it within the capabilities of existing plant safety-related equipment in accordance with the regulatory criteria (including NRC approved codes, standards and methods). No new accident or event precursor was identified.

The long-term stability solution is being changed from the currently approved Option III solution to DSS-CD. DSS-CD is designed to identify the power oscillation upon inception and initiate control rod insertion (scram) to terminate the oscillations prior to any significant amplitude growth exceeding the applicable safety limits. DSS-CD is based on the same hardware design as Option III. However, it introduces an enhanced detection algorithm that detects the inception of power oscillations and generates an earlier power suppression trip signal. The existing Option III algorithms are retained (with generic setpoints) to provide defense-in-depth protection for unanticipated reactor instability events.

Structures, systems, and components (SSCs) previously required for the mitigation of a transient remain capable of fulfilling their intended design functions. The proposed changes do not adversely affect safety-related systems or components and do not challenge the performance or integrity of any safety-related system. The physical change's to the SLS is limited to the increase in the SLS pump discharge pressure acceptance criterion. The proposed changes do not otherwise affect the design or operation of the SLS.

This proposed change to the SLMCPR for two recirculation loops in operation does not result in any modification to the design or operation of the systems that are used in the mitigation of accidents. The proposed change to the SLMCPR for two recirculation loops in operation assures that safety criteria are maintained.

The proposed changes do not adversely affect any current system interfaces or create any new interfaces that could result in an accident or malfunction of a different kind than was previously evaluated.

Therefore, the proposed changes do not create the possibility of a new or different kind of accident from any accident previously evaluated.

3. Will the change involve a significant reduction in a margin of safety?

Response: No.

The MELLLA+ operating domain affects only design and operational margins. Challenges to the fuel, reactor coolant pressure boundary, and containment were evaluated for the MELLLA+ operating domain conditions. Fuel integrity is maintained by meeting existing design and regulatory limits. The calculated loads on affected SSCs, including the reactor coolant pressure boundary, will remain within their design specifications for design basis event categories. No NRC acceptance criterion is exceeded.

Comprehensive analyses of the proposed changes have concluded that relevant design and safety acceptance criteria will be met without a significant reduction in margins of safety. The analyses have demonstrated that the NMP2 SSCs are capable of safely performing at MELLLA+ conditions. The analyses identified and defined the major input parameters to the Nuclear Steam Supply System (NSSS), analyzed NSSS design transients, and evaluated the capabilities of the NSSS fluid systems, NSSS/Balance of Plant (BOP) interfaces, NSSS control systems, and NSSS and BOP components, as appropriate. Radiological consequences of design basis events remain within regulatory limits and are not increased significantly. The analyses confirmed that NSSS and BOP SSCs are capable of achieving MELLLA+ conditions without significant reduction in margins of safety.

Analyses have shown that the integrity of primary fission product barriers will not be significantly affected as a result of change in the operating domain. Calculated loads on SSCs important to safety have been shown to remain within design allowables with MELLLA+ conditions for all design basis event categories. Plant response to transients and accidents do not result in exceeding acceptance criteria. As appropriate, the evaluations that demonstrate acceptability of MELLLA+ have been performed using methods that have either been reviewed and approved by the NRC staff, or that are in compliance with regulatory review guidance and standards established for maintaining adequate margins of safety. These evaluations demonstrate that there are no significant reductions in the margins of safety.

The SLS is used to mitigate the consequences of an ATWS event and is used to limit the radiological dose during a LOCA. The proposed changes do not affect the capability of the SLS to perform these two functions in accordance with the assumptions of the associated analyses. The ATWS evaluation with the proposed changes incorporated demonstrated that all the ATWS acceptance criteria are met. The ability of the SLS to mitigate radiological dose in the event of a LOCA by maintaining suppression pool pH ≥7.0 is not affected by these changes.

This proposed change to the SLMCPR for two recirculation loops in operation provides a margin of safety by ensuring that no more than 0.1% of fuel rods are expected to be in boiling transition if the MCPR limit is not violated. The proposed change will ensure the appropriate level of fuel protection is maintained. Additionally, operational limits are established based on the proposed SLMCPR to ensure that the SLMCPR is not violated during all modes of operation. This will ensure that the fuel design safety criteria are met (i.e., that at least 99.9% of the fuel rods do not experience transition boiling during normal operation as well as anticipated operational occurrences).

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Gautam Sen, Senior Counsel, Constellation Energy Nuclear Group, LLC, 100 Constellation Way, Suite 200C, Baltimore, MD 21202.

NRC Branch Chief: Benjamin Beasley.

Northern States Power Company—Minnesota, Docket No. 50-263, Monticello Nuclear Generating Plant, Wright County, Minnesota; and Northern States Power Company (NSPC)—Minnesota, Docket Nos. 50-282 and 50-306, Prairie Island Nuclear Generating Plant, Units 1 and 2, Goodhue County, Minnesota

Date of amendment request: November 27, 2013, as supplemented by letter dated May 5, 2014. Publicly-available versions are in ADAMS under Accession Nos. ML13333B674 and ML14126A727).

Description of amendment request: This amendment request contains sensitive unclassified non-safeguards information (SUNSI). The license amendment request pertains to the Cyber Security Plan (CSP) implementation schedule change in the completion date for Milestone 8. Milestone 8 pertains to the date that full implementation of the CSP for all safety, security, and emergency preparedness functions will be achieved.

Basis for proposed no significant hazards consideration determination: As required by 10 CFR 50.91(a), the licensee has provided its analysis of the issue of no significant hazards consideration, which is presented below:

1. Does the proposed change involve a significant increase in the probability or consequences of an accident previously evaluated?

Response: No.

The amendment proposes a change to the NSPM Cyber Security Plan (CSP) Milestone 8 (M8) full implementation date.

The revision of the full implementation date for the NSPM CSP does not involve modifications to any safety-related structures, systems or components (SSCs). Rather, the implementation schedule provides a timetable for fully implementing the NSPM CSP. The CSP describes how the requirements of 10 CFR 73.54 are to be implemented to identify, evaluate, and mitigate cyber-attacks up to and including the design basis cyber-attack threat, thereby achieving high assurance that the facility's digital computer and communications systems and networks are protected from cyber-attacks. The revision of the NSPM CSP Implementation Schedule will not alter previously evaluated design basis accident analysis assumptions, add any accident initiators, modify the function of the plant safety-related SSCs, or affect how any plant safety-related SSCs are operated, maintained, modified, tested, or inspected.

Therefore, the proposed changes do not involve a significant increase in the probability or consequences of an accident previously evaluated.

2. Does the proposed change create the possibility of a new or different kind of accident from any accident previously evaluated?

Response: No.

The amendment proposes a change to the NSPM CSP Milestone 8 (M8) full implementation date.

The revision of the full implementation date for the NSPM CSP does not involve modifications to any safety-related structures, systems or components (SSCs). The implementation of the NSPM CSP does not introduce new equipment that could create a new or different kind of accident, and no new equipment failure modes are created. No new accident scenarios, failure mechanisms, or limiting single failures are introduced as a result of this proposed amendment.

Therefore, the proposed change does not create the possibility of a new or different kind of accident from any previously evaluated.

3. Does the proposed change involve a significant reduction in a margin of safety?

Response: No.

The amendment proposes a change to the NSPM CSP Milestone 8 (M8) full implementation date.

The revision of the full implementation date for the NSPM CSP does not involve modifications to any safety-related structures, systems or components (SSCs). The margin of safety is associated with the confidence in the ability of the fission product barriers (i.e., fuel cladding, reactor coolant pressure boundary, and containment structure) to limit the level of radiation to the public. The proposed amendment does not alter the way any safety-related SSC functions and does not alter the way the plant is operated. The Cyber Security Plan provides assurance that safety-related SSCs are protected from cyber-attacks. The proposed amendment does not introduce any new uncertainties or change any existing uncertainties associated with any safety limit. The proposed amendment has no effect on the structural integrity of the fuel cladding, reactor coolant pressure boundary, or containment structure. Based on the above considerations, the proposed amendment does not degrade the confidence in the ability of the fission product barriers to limit the level of radiation to the public.

Therefore the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Peter M. Glass, Assistant General Counsel, Xcel Energy Services, Inc., 414 Nicollet Mall, Minneapolis, MN 55401.

NRC Branch Chief: Robert D. Carlson.

Order Imposing Procedures for Access to Sensitive Unclassified Non-Safeguards Information for Contention Preparation

Entergy Nuclear Operations, Inc., Docket No. 50-333, James A. Fitzpatrick, Nuclear Power Plant, Oswego County, New York

Entergy Nuclear Operations, Inc., Docket No. 50-293, Pilgrim Nuclear Power Station, Plymouth County, Massachusetts

Exelon Generation Company, LLC, Docket Nos. 50-317 and 50-318, Calvert Cliffs Nuclear Power Plant, Units 1 and 2, Calvert County, Maryland

Exelon Generation Company, LLC, Docket Nos. 50-373 and 50-374, LaSalle County Station, Units 1 and 2, LaSalle County, Illinois

Exelon Generation Company, LLC, Docket Nos. 50-373 and 50-374, LaSalle County Station, Units 1 and 2, LaSalle County, Illinois

Nine Mile Point Nuclear Station, LLC, Docket No. 50-410, Nine Mile Point Nuclear Station, Unit 2, Oswego County, New York

Northern States Power Company—Minnesota, Docket No. 50-263, Monticello Nuclear Generating Plant, Wright County, Minnesota; and

Northern States Power Company, Minnesota, Docket Nos. 50-282 and 50-306, Prairie Island Nuclear Generating Plant, Units 1 and 2, Goodhue County, Minnesota

A. This Order contains instructions regarding how potential parties to this proceeding may request access to documents containing SUNSI.

B. Within 10 days after publication of this notice of hearing and opportunity to petition for leave to intervene, any potential party who believes access to SUNSI is necessary to respond to this notice may request such access. A “potential party” is any person who intends to participate as a party by demonstrating standing and filing an admissible contention under 10 CFR 2.309. Requests for access to SUNSI submitted later than 10 days after publication of this notice will not be considered absent a showing of good cause for the late filing, addressing why the request could not have been filed earlier.

C. The requester shall submit a letter requesting permission to access SUNSI to the Office of the Secretary, U.S. Nuclear Regulatory Commission, Washington, DC 20555-0001, Attention: Rulemakings and Adjudications Staff, and provide a copy to the Associate General Counsel for Hearings, Enforcement and Administration, Office of the General Counsel, Washington, DC 20555-0001. The expedited delivery or courier mail address for both offices is: U.S. Nuclear Regulatory Commission, 11555 Rockville Pike, Rockville, Maryland 20852. The email address for the Office of the Secretary and the Office of the General Counsel are Hearing.Docket@nrc.gov and OGCmailcenter@nrc.gov, respectively.¹ The request must include the following information:

¹ While a request for hearing or petition to intervene in this proceeding must comply with the filing requirements of the NRC's “E-Filing Rule,” the initial request to access SUNSI under these procedures should be submitted as described in this paragraph.

(1) A description of the licensing action with a citation to this Federal Register notice;

(2) The name and address of the potential party and a description of the potential party's particularized interest that could be harmed by the action identified in C.(1); and

(3) The identity of the individual or entity requesting access to SUNSI and the requester's basis for the need for the information in order to meaningfully participate in this adjudicatory proceeding. In particular, the request must explain why publicly-available versions of the information requested would not be sufficient to provide the basis and specificity for a proffered contention.

D. Based on an evaluation of the information submitted under paragraph C.(3) the NRC staff will determine within 10 days of receipt of the request whether:

(1) There is a reasonable basis to believe the petitioner is likely to establish standing to participate in this NRC proceeding; and

(2) The requestor has established a legitimate need for access to SUNSI.

E. If the NRC staff determines that the requestor satisfies both D.(1) and D.(2) above, the NRC staff will notify the requestor in writing that access to SUNSI has been granted. The written notification will contain instructions on how the requestor may obtain copies of the requested documents, and any other conditions that may apply to access to those documents. These conditions may include, but are not limited to, the signing of a Non-Disclosure Agreement or Affidavit, or Protective Order ² setting forth terms and conditions to prevent the unauthorized or inadvertent disclosure of SUNSI by each individual who will be granted access to SUNSI.

² Any motion for Protective Order or draft Non-Disclosure Affidavit or Agreement for SUNSI must be filed with the presiding officer or the Chief Administrative Judge if the presiding officer has not yet been designated, within 30 days of the deadline for the receipt of the written access request.

F. Filing of Contentions. Any contentions in these proceedings that are based upon the information received as a result of the request made for SUNSI must be filed by the requestor no later than 25 days after the requestor is granted access to that information. However, if more than 25 days remain between the date the petitioner is granted access to the information and the deadline for filing all other contentions (as established in the notice of hearing or opportunity for hearing), the petitioner may file its SUNSI contentions by that later deadline. This provision does not extend the time for filing a request for a hearing and petition to intervene, which must comply with the requirements of 10 CFR 2.309.

G. Review of Denials of Access.

(1) If the request for access to SUNSI is denied by the NRC staff after a determination on standing and need for access, the NRC staff shall immediately notify the requestor in writing, briefly stating the reason or reasons for the denial.

(2) The requester may challenge the NRC staff's adverse determination by filing a challenge within 5 days of receipt of that determination with: (a) The presiding officer designated in this proceeding; (b) if no presiding officer has been appointed, the Chief Administrative Judge, or if he or she is unavailable, another administrative judge, or an administrative law judge with jurisdiction pursuant to 10 CFR 2.318(a); or (c) officer if that officer has been designated to rule on information access issues.

H. Review of Grants of Access. A party other than the requester may challenge an NRC staff determination granting access to SUNSI whose release would harm that party's interest independent of the proceeding. Such a challenge must be filed with the Chief Administrative Judge within 5 days of the notification by the NRC staff of its grant of access.

If challenges to the NRC staff determinations are filed, these procedures give way to the normal process for litigating disputes concerning access to information. The availability of interlocutory review by the Commission of orders ruling on such NRC staff determinations (whether granting or denying access) is governed by 10 CFR 2.311.³

³ Requesters should note that the filing requirements of the NRC's E-Filing Rule (72 FR 49139; August 28, 2007) apply to appeals of NRC staff determinations (because they must be served on a presiding officer or the Commission, as applicable), but not to the initial SUNSI request submitted to the NRC staff under these procedures.

I. The Commission expects that the NRC staff and presiding officers (and any other reviewing officers) will consider and resolve requests for access to SUNSI, and motions for protective orders, in a timely fashion in order to minimize any unnecessary delays in identifying those petitioners who have standing and who have propounded contentions meeting the specificity and basis requirements in 10 CFR Part 2. Attachment 1 to this Order summarizes the general target schedule for processing and resolving requests under these procedures.

It is so ordered.

Dated at Rockville, Maryland, this 24th day of July 2014.
For the Commission.
Richard J. Laufer,
Acting Secretary of the Commission.

Attachment 1—General Target Schedule for Processing and Resolving Requests for Access to Sensitive Unclassified Non-Safeguards Information in This Proceeding
Day | Event/activity
0 | Publication of Federal Register notice of hearing and opportunity to petition for leave to intervene, including order with instructions for access requests.
10 | Deadline for submitting requests for access to Sensitive Unclassified Non-Safeguards Information (SUNSI) with information: Supporting the standing of a potential party identified by name and address; describing the need for the information in order for the potential party to participate meaningfully in an adjudicatory proceeding.
60 | Deadline for submitting petition for intervention containing: (i) Demonstration of standing; and (ii) all contentions whose formulation does not require access to SUNSI (+25 Answers to petition for intervention; +7 petitioner/requestor reply).
20 | U.S. Nuclear Regulatory Commission (NRC) staff informs the requester of the staff's determination whether the request for access provides a reasonable basis to believe standing can be established and shows need for SUNSI. (NRC staff also informs any party to the proceeding whose interest independent of the proceeding would be harmed by the release of the information.) If NRC staff makes the finding of need for SUNSI and likelihood of standing, NRC staff begins document processing (preparation of redactions or review of redacted documents).
25 | If NRC staff finds no “need” or no likelihood of standing, the deadline for petitioner/requester to file a motion seeking a ruling to reverse the NRC staff's denial of access; NRC staff files copy of access determination with the presiding officer (or Chief Administrative Judge or other designated officer, as appropriate). If NRC staff finds “need” for SUNSI, the deadline for any party to the proceeding whose interest independent of the proceeding would be harmed by the release of the information to file a motion seeking a ruling to reverse the NRC staff's grant of access.
30 | Deadline for NRC staff reply to motions to reverse NRC staff determination(s).
40 | (Receipt +30) If NRC staff finds standing and need for SUNSI, deadline for NRC staff to complete information processing and file motion for Protective Order and draft Non-Disclosure Affidavit. Deadline for applicant/licensee to file Non-Disclosure Agreement for SUNSI.
A | If access granted: Issuance of presiding officer or other designated officer decision on motion for protective order for access to sensitive information (including schedule for providing access and submission of contentions) or decision reversing a final adverse determination by the NRC staff.
A + 3 | Deadline for filing executed Non-Disclosure Affidavits. Access provided to SUNSI consistent with decision issuing the protective order.
A + 28 | Deadline for submission of contentions whose development depends upon access to SUNSI. However, if more than 25 days remain between the petitioner's receipt of (or access to) the information and the deadline for filing all other contentions (as established in the notice of hearing or opportunity for hearing), the petitioner may file its SUNSI contentions by that later deadline.
A + 53 | (Contention receipt +25) Answers to contentions whose development depends upon access to SUNSI.
A + 60 | (Answer receipt +7) Petitioner/Intervenor reply to answers.
>A + 60 | Decision on contention admission.

[FR Doc. 2014-17949 Filed 8-4-14; 8:45 am]

BILLING CODE 7590-01-P